DEPARTMENT OF THE TREASURY

Office of Thrift Supervision

Proposed Agency Information Collection Activities; Comment Request—Interagency Guidance on Response Programs for Unauthorized Access to Customer Information and Customer Notice

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on its proposal to extend this information collection.

DATES: Submit written comments on or before February 16, 2007.

ADDRESSES: Send comments, referring to the collection by title of the proposal or by OMB approval number, to Information Collection Comments, Chief Counsel's Office, Office of Thrift Supervision, 1700 G Street, NW., Washington, DC 20552; send a facsimile transmission to (202) 906-6518; or send an e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: You can request additional information about this proposed information collection from Lewis Angel, Technology Program Manager, Information Technology Risk Management, (202) 906-5645, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Comments should address one or more of the following points:

a. Whether the proposed collection of information is necessary for the proper performance of the functions of OTS, including whether the information will have practical utility;

b. The accuracy of OTS's estimate of the burden of the proposed information collection, including the validity of the methodology and assumptions used;

c. Ways to enhance the quality, utility, and clarity of the information to be collected; and

d. Ways to minimize the burden of the information collection on respondents, including through the use of appropriate automated, electronic, mechanical, or other technological collection techniques or other forms of information technology.

e. Whether the estimates need to be adjusted based upon the institutions' experience regarding the number of actual security breaches that occur.

We will summarize the comments that we receive and include them in the OTS request for OMB approval. All comments will become a matter of public record. In this notice, OTS is soliciting comments concerning the following information collection.

Title of Proposal: Interagency Guidance on Response Programs for Unauthorized Access to Customer Information and Customer Notice.

OMB Number: 1550-0110.

Form Number: N/A.

Description: On March 29, 2005, the Office of the Comptroller of the Currency (OCC), Board of Governors of the Federal Reserve System (Board), Federal Deposit Insurance Corporation (FDIC), and Office of Thrift Supervision (OTS) (collectively, the Agencies) published the Interagency Guidance on Response Programs for Unauthorized Access to Customer Information and Customer Notice (70 FR 15736) (Guidance). The Guidance interprets the requirements of section 501(b) of the Gramm-Leach-Bliley Act (GLBA), 15 U.S.C. 6801, and the Interagency Guidelines Establishing Information Security Standards (Security Guidelines) ¹ to include the development and implementation of a response program to address unauthorized access to or use of customer information that could result in substantial harm or inconvenience to a customer. The Guidance states that every financial institution should develop and implement a response program designed to address incidents of unauthorized access to customer information maintained by the institution or its service provider, and describes the appropriate elements of a financial institution's response program, including customer notification procedures.

¹ 12 CFR part 570, app. B (OTS).

OTS is proposing to extend OMB approval of the following information collection. This submission involves no change to the regulation or to the information collection requirements.

Type of Review: Renewal.

Affected Public: Business or other for-profit; individuals.

Number of Respondents: 852.

Estimated Time per Response:

Developing Notices: 20 hours × 8 = 160 hours. 24 hours × 852 = 20,448 hours.

Notifying Customers: 29 hours × 17 = 435 hours.

Total Estimated Annual Burden = 20,883 hours.

Clearance Officer: Marilyn K. Burton, (202) 906-6467, Office of Thrift Supervision, 1700 G Street, NW., Washington, DC 20552.

Dated: December 12, 2006.
Deborah Dakin,
Senior Deputy Chief Counsel, Regulations and Legislation Division.

[FR Doc. E6-21464 Filed 12-15-06; 8:45 am]

BILLING CODE 6720-01-P